DEPARTMENT OF COMMERCE

National Oceanic and Atmospheric Administration

50 CFR Part 635

[I.D. 120999B]

Atlantic Highly Migratory Species Fisheries; Public Hearing

AGENCY: National Marine Fisheries Service (NMFS), National Oceanic and Atmospheric Administration (NOAA), Commerce.

ACTION: Change in public hearing date.

SUMMARY: NMFS published a public hearing announcement and request for comments on May 24, 2000, to receive comments from fishery participants and other members of the public regarding proposed regulations to establish North Atlantic swordfish quotas for the 2000-2002 fishing years and to change trade restrictions for Atlantic bluefin tuna and swordfish. NMFS herewith announces a change in the date of the public hearing to be held in Pompano Beach, FL from June 8, 2000, to July 11, 2000.

To accommodate people unable to attend a hearing or wishing to provide written comments, NMFS also solicits written comments on the proposed rule.

DATES: The new hearing is scheduled as follows:

1. Tuesday, July 11, 2000, 7 to 9:30 p.m., Pompano Beach, FL.

Written comments on the proposed rule or the draft Environmental Assessment/Regulatory Impact Review/Initial Regulatory Flexibility Analysis (EA/RIR/IRFA) must be received at the appropriate address or fax number (see ADDRESSES) no later than 5 p.m., eastern standard time, on July 18, 2000.

ADDRESSES: The location for this hearing is as follows:

1. Pompano Beach Civic Center, 1801 NE 6th Street, Pompano Beach, FL 33060.

Written comments on the proposed rule or EA/RIR/IRFA should be sent to Rebecca Lent, Chief, Highly Migratory Species Management Division, Office of Sustainable Fisheries (F/SF1), National Marine Fisheries Service, 1315 East-West Highway, Silver Spring, MD 20910. Comments also may be sent via facsimile (fax) to 301-713-1917. Comments will not be accepted if submitted via e-mail or Internet. For copies of the proposed rules or EA/RIR/IRFA contact Rachel Husted at 301-713-2347, or write to Rebecca Lent.

FOR FURTHER INFORMATION CONTACT: Rachel Husted at 301-713-2347, fax 301-713-1917, e-mail rachel.husted@noaa.gov.

SUPPLEMENTARY INFORMATION: The proposed regulations that are the subject of the hearings are necessary to address requirements of the Magnuson-Stevens Fishery Conservation and Management Act for the conservation and management of highly migratory species.

A complete description of the measures, the purpose and need for the proposed actions, and information on other hearing locations is contained in the proposed rules, published Wednesday May 24, 2000 (65 FR 33517 and 65 FR 33519), and is not repeated here.

Persons submitting written comments on the proposed rule or the EA/RIR/IRFA should include their name, address and, if possible, phone number; the title of the document on which comments are being submitted; and specific factors or comments along with supporting reasons that NMFS should consider in reaching a decision.

Special Accommodations

The hearings are physically accessible to people with disabilities. Requests for sign language interpretation or other auxiliary aids should be directed to Rachel Husted (see FOR FURTHER INFORMATION CONTACT) at least 7 days prior to the hearing or meeting.

Authority: 16 U.S.C. 971 et seq., and 16 U.S.C. 1801 et seq.

Dated: May 31, 2000.
Bruce C. Morehead,
Acting Director, Office of Sustainable Fisheries, National Marine Fisheries Service.

[FR Doc. 00-14037 Filed 5-31-00; 4:33 pm]

BILLING CODE 3510-22-F